DEPARTMENT OF COMMERCE

National Oceanic and Atmospheric Administration

[RTID 0648-XB939]

Determination of Overfishing or an Overfished Condition

AGENCY: National Marine Fisheries Service (NMFS), National Oceanic and Atmospheric Administration (NOAA), Commerce.

ACTION: Notice.

SUMMARY: This action serves as a notice that NMFS, on behalf of the Secretary of Commerce (Secretary), has found that South Atlantic blueline tilefish is now subject to overfishing; Georges Bank Atlantic cod is still overfished; and Gulf of Maine Atlantic cod is still subject to overfishing and still overfished. NMFS, on behalf of the Secretary, notifies the appropriate regional fishery management council (Council) whenever it determines that a stock or stock complex is subject to overfishing, overfished, or approaching an overfished condition.

FOR FURTHER INFORMATION CONTACT: Kathryn Frens, (301) 427-8523.

SUPPLEMENTARY INFORMATION: Pursuant to section 304(e)(2) of the Magnuson-Stevens Fishery Conservation and Management Act (Magnuson-Stevens Act), 16 U.S.C. 1854(e)(2), NMFS, on behalf of the Secretary, must notify Councils, and publish a notice in the Federal Register, whenever it determines that a stock or stock complex is subject to overfishing, overfished, or approaching an overfished condition.

NMFS has determined that South Atlantic blueline tilefish is now subject to overfishing. Blueline tilefish was not assessed in 2021, and catch data from 2020 support a determination that this stock is subject to overfishing because the catch exceeded the threshold. NMFS has notified the South Atlantic Fishery Management Council of the requirement to end and prevent overfishing on this stock.

NMFS has determined that Georges Bank Atlantic cod is still overfished, and that Gulf of Maine Atlantic cod is still subject to overfishing and still overfished. The Georges Bank Atlantic cod determination is based on the most recent assessment, completed in 2021 using commercial fishery catch data through 2020 and updated research survey indices of abundance through spring 2021. The assessment cannot quantitatively determine overfished or overfishing status, but the poor condition of the stock qualitatively indicates that it remains overfished. The Gulf of Maine Atlantic cod determination is based on the most recent assessment, completed in 2021 using data through 2019, which indicate that the stock is subject to overfishing because the fishing mortality rate is above the threshold, and overfished because the biomass is below the threshold. NMFS continues to work with the New England Fishery Management Council to end overfishing on Gulf of Maine Atlantic cod and to rebuild both of these stocks.

Dated: April 14, 2022.
Kelly Denit,
Director, Office of Sustainable Fisheries, National Marine Fisheries Service.

[FR Doc. 2022-08375 Filed 4-19-22; 8:45 am]

BILLING CODE 3510-22-P